DEPARTMENT OF TRANSPORTATION

Pipeline and Hazardous Materials Safety Administration

[Docket No. RSPA-03-15852]

Pipeline Safety: Workshops on Public Awareness Programs for Pipeline Operators

AGENCY: Pipeline and Hazardous Materials Safety Administration (PHMSA), DOT.

ACTION: Notice of workshops.

SUMMARY: PHMSA and the National Association of Pipeline Safety Representatives (NAPSR) will host two workshops to help ensure full compliance with new public awareness program requirements for pipeline operators. PHMSA will provide an update on the compliance review plan. In addition, these workshops will provide a forum to share strategies for implementing these new requirements successfully. Participants can learn about collaborative efforts undertaken in different sectors of the pipeline industry to improve both the effectiveness and efficiency of their related programs.

DATES: The November workshop will focus on helping gas distribution operators improve their public awareness programs. It will be held on November 9-10, 2005. The December workshop will focus on helping hazardous liquid and gas transmission operators improve their public awareness programs. It will be held on December 7-8, 2005. Both workshops will begin at 1 p.m. on the first day and end at noon on the second day.

ADDRESSES: The November 9-10, 2005, workshop will be held at the Hyatt Regency Baltimore on the Inner Harbor, 300 Light Street, Baltimore, MD 21202. Hotel reservations under the U.S. Department of Transportation room block can be made at 410-528-1234 or 1-800-233-1234. The meeting room will be posted at the hotel on the day of workshop.

The December 7-8, 2005, meeting will be held at the Hilton America, 1600 Lamar Street, Houston, TX 77010. Hotel reservations under the U.S. Department of Transportation room block can be made at 713-739-8000 or 1-800-4HILTON. The meeting room will be posted at the hotel on the day of workshop.

FOR FURTHER INFORMATION CONTACT: Blaine Keener, OPS, (202) 366-0970, blaine.keener@dot.gov.

SUPPLEMENTARY INFORMATION: Registration: To register for the workshops, select the workshop you would like to attend from http://primis.phmsa.dot.gov/meetings/. Hotel reservations must be made by contacting the hotel directly.

Web Casting: Both workshops will be Web cast and will be available for one month after each workshop. The Web cast Internet address will be posted to the registration Web page prior to the workshop.

Background: The Pipeline Safety Improvement Act of 2002 requires operators to evaluate and, where needed, improve their pipeline safety public awareness programs. The Act also authorized the Secretary of Transportation to prescribe standards to govern these programs. Accordingly, PHMSA issued a Final Rule (70 FR 28833) on May 19, 2005, establishing requirements for pipeline operator public awareness programs. This Final Rule revised 49 CFR 192.616 and 195.440.

The revised regulations require operators of pipeline systems to implement public awareness programs in accordance with American Petroleum Institute (API) Recommended Practice (RP) 1162, Public Awareness Programs for Pipeline Operators, First Edition, December 2003. On June 16, 2005, PHMSA issued a Final Rule Correction Notice (70 FR 35041) to clarify that all pipeline system operators must follow the baseline and, where appropriate, the supplemental requirements of API RP 1162. Most operators must enhance their public awareness programs to meet the new requirements by June 20, 2006. Small propane and master meter operators have until June 20, 2007, to revise their programs. The announced workshops will provide additional guidance to operators as they revise their public awareness programs.

PHMSA has created a public awareness resource Web page at http://primis.phmsa.dot.gov/comm/PublicEducation.htm.

PHMSA and NAPSR will begin each workshop with a brief presentation on the Public Awareness Program Final Rule and the Final Rule Correction. Industry presentations will describe efforts industry has undertaken to ensure effective and efficient compliance with these rules, including guidance on how to:

• Determine the content of public awareness messages;

• Establish delivery methods for public awareness messages;

• Determine supplemental enhancements to baseline programs; and

• Evaluate public awareness program effectiveness.

PHMSA and NAPSR will discuss oversight plans. In particular, they will discuss current plans to use a central clearinghouse approach to review public awareness programs. Finally, PHMSA will respond to frequently asked questions.

PHMSA will post agendas for the workshops on its Web site (http://phmsa.dot.gov/) approximately two weeks prior to the workshop.

Issued in Washington, DC on October 13, 2005.
Stacey L. Gerard,
Associate Administrator for Pipeline Safety.

[FR Doc. 05-20867 Filed 10-13-05; 3:40 pm]

BILLING CODE 4910-60-P